DEPARTMENT OF JUSTICE

Office of Justice Programs

[OJP (OJJDP)—Docket No. 1406]

Office of Juvenile Justice and Delinquency Prevention: Meeting of the Juvenile Justice Advisory Committee

AGENCY: Office of Juvenile Justice and Delinquency Prevention (OJJDP), Office of Justice Programs, Justice.

ACTION: Notice of meeting.

SUMMARY: OJJDP is announcing the meeting of the Juvenile Justice Advisory Committee (JJAC) in Denver, Colorado, on July 9-10, 2004, at the meeting times and location noted below.

DATES: The schedule of events is as follows:

Friday, July 9, 2004: 9 a.m.-5 p.m. Discussion and deliberation on JJAC. Recommendations to the President, the Congress, and the Administrator of OJJDP (Public Meeting).

Saturday, July 10, 2004: 9 a.m.-10:30 a.m. If needed, further discussion and deliberation on JJAC. Recommendations to the President, the Congress, and the Administrator of OJJDP (Public Meeting). If further discussion time is not needed, subcommittees of the JJAC will meet in closed session, 10:30-11:30 a.m. Subcommittee Reporting (Open Session), 11:30 a.m.-12 p.m. Closing Remarks (Open Session).

ADDRESSES: The meeting will take place at the Hyatt Regency, 1750 Welton Street, Denver, Colorado 80202.

FOR FURTHER INFORMATION CONTACT: Timothy Wight, Designated Federal Official, OJJDP, by e-mail at: Timothy.Wight@usdoj.gov, or by telephone at (202) 514-2190 (please note that this is not a toll-free number).

SUPPLEMENTARY INFORMATION: The Juvenile Justice Advisory Committee, established pursuant to section 3(2)(A) of the Federal Advisory Committee Act (5 U.S.C. App. 2), will meet to carry out its advisory functions under section 223(f)(2)(C-E) of the Juvenile Justice and Delinquency Prevention Act of 2002. The JJAC is composed of one representative from each State and territory. Their duties are to review Federal policies regarding juvenile justice and delinquency prevention; advise the OJJDP Administrator with respect to particular functions and aspects of the work of OJJDP; and advise the President and Congress with regard to State perspectives on the operation of OJJDP and Federal legislation pertaining to juvenile justice and delinquency prevention. More information on the JJAC, including a list of members, may be found at http://www.ojjdp.ncjrs.org/jjac/.

Members of the public who wish to attend the open sessions of the meeting should register by sending an e-mail with their name, affiliation, address, phone number, and which sessions they would like to attend, to JJAC@jjrc.org. Individuals without access to e-mail, may call Carol Sadler at (301) 519-5245. Because space is limited, notification should be sent by June 28, 2004.

Dated: June 16, 2004.
Marilyn Roberts,
Executive Associate Administrator, Office of Juvenile Justice and Delinquency Prevention.

[FR Doc. 04-13942 Filed 6-18-04; 8:45 am]

BILLING CODE 4410-18-P